FEDERAL RETIREMENT THRIFT INVESTMENT BOARD

Sunshine Act Meeting

Time and Date: 2 p.m. (EST). December 16, 2002

Place: 4th Floor, Conference Room, 1250 H Street, NW., Washington, DC

Status: Parts will be open to the public and parts closed to the public.

Matters to be Considered: Parts Open to the Public

1. Discussion of the minutes of the November 18, 2002, Board member meeting.

2. Thrift Savings Plan activity report by the Executive Director (including Legislation and New System Development).

3. Review of the Labor Department's Executive Summary of its FY 2002 audit program.

Parts Closed to the Public

1. Discussion of litigation.

2. Discussion of personnel matters.

CONTACT PERSON FOR MORE INFORMATION: Thomas J. Trabucco, Director, Office of External Affairs, (202) 942-1640.

Dated: December 4, 2002.
David L. Hutner,
Secretary to the Board, Federal Retirement Thrift Investment Board.

[FR Doc. 02-31117 Filed 12-4-02; 4:28 pm]

BILLING CODE 6760-01-M